DEPARTMENT OF DEFENSE

Office of the Secretary

Privacy Act of 1974; System of Records

AGENCY: Office of the Secretary, DoD.

ACTION: Notice to add a system of records.

SUMMARY: The Office of the Secretary proposes to add a system of records notice to its existing inventory of record systems subject to the Privacy Act of 1974, (5 U.S.C. 552a), as amended.

DATES: This proposed action will be effective without further notice on January 2, 2001 unless comments are received which result in a contrary determination.

ADDRESSES: Send comments to OSD Privacy Act Coordinator, Records Section, Directives and Records Division, Washington Headquarter Services, Correspondence and Directives, 1155 Defense Pentagon, Washington, DC 20301-1155.

FOR FURTHER INFORMATION CONTACT: Mr. David Bosworth at (703) 601-4722.

SUPPLEMENTARY INFORMATION: The Office of the Secretary systems of records notices subject to the Privacy Act of 1974, (5 U.S.C. 552a), as amended, have been published in the Federal Register and are available from the address above.

The proposed system report, as required by 5 U.S.C. 552a(r) of the Privacy Act of 1974, as amended, was submitted on November 20, 2000, to the House Committee on Government Reform and Oversight, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 22, 2000.
L.M. Bynum,
Alternate OSD Federal Register Liaison Officer, Department of Defense.

DWHS P47

System name:

OSD Military Personnel Files.

System location:

Military Personnel Division, Personnel and Security Directorate, Washington Headquarters Services, 1155 Defense Pentagon, Washington, DC 20301-1155.

Categories of individuals covered by the system:

All military personnel assigned or attached to or on temporary duty with the Office of the Secretary of Defense (OSD).

Categories of records in the system:

Files contain personnel information that has been extracted from the individual's Official Military Personnel Files (OMPF). File contains, but is not limited to, name, grade, Social Security number; service job title; expected date of arrival for duty with OSD; expected date of departure from OSD; home and address of record; general and special orders; and details pertaining to duties, assignment, promotion, and training.

Authority for maintenance of the system:

10 U.S.C. 131, Office of the Secretary of Defense and E.O. 9397 (SSN).

Purpose(s):

To administer and centrally manage personnel functions of Department of Defense military personnel prior to their assignment and during their assignment to OSD. Uses include, but are not limited to, knowing when an individual will arrive, what agency they will be assigned to, who they will replace and when an individual will depart. The records are maintained as a local repository of documents generated during the service member's assignment and are used to manage, administer, and document the assignment.

Routine uses of records maintained in the system, including Categories of Users and the purpose of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and Practices for Storing, Retrieving, Accessing, Retaining, and Disposing of Records in the System:

Storage:

Paper records in file folders, paper cards and ringed binders; electronic records are stored on magnetic media.

Retrievability:

Paper records are filed by branch of Service and within Service, alphabetically by last name of individual. Electronic records are retrieved by individual's name and Social Security Number.

Safeguards:

Records are maintained in areas accessible only to authorized personnel who are properly screened, cleared, and trained. Access to the electronic portion of the system is controlled by user passwords that are periodically changed. Security systems and/or security guards protect buildings where records are maintained.

Retention and disposal:

Both paper and electronic files are maintained in active status until individual departs OSD. Upon departure, the individual's files are moved to inactive status. Inactive files are retained for one year and then destroyed or deleted.

System manager(s) and address:

Chief, Military Personnel Division, Personnel and Security Directorate, Washington Headquarters Services, 1155 Defense Pentagon, Room 4A948, Washington, DC 20301-1155.

Notification procedures:

Individuals seeking to determine whether information about themselves is contained in this system should address written inquiries to the Personnel and Security Directorate, ATTN: Military Personnel Division, Washington Headquarters Services, 1155 Defense Pentagon, Washington, DC 20301-1155.

Record access procedures:

Individuals seeking access to information about themselves contained in this system should address written inquiries to the Personnel and Security Directorate, ATTN: Military Personnel Division, Washington Headquarters Services, 1155 Defense Pentagon, Washington, DC 20301-1155.

Written requests for information should contain the full name of the individual, current address and telephone number.

For personal visits, the individual should be able to provide some acceptable identification.

Contesting record procedures:

The OSD rules for accessing records, for contesting contents and appealing initial agency determinations are published in OSD Administrative Instruction 81; 32 CFR part 311; or may be obtained from the system manager.

Record source categories:

Sources of information are the individual, the individual's Official Military Personnel File; PCS Orders; and SD Form 37, ‘Request for Nomination and Position Description of Military Personnel’.

Exemptions claimed for the system:

None.

[FR Doc. 00-30471 Filed 11-30-00; 8:45 am]

BILLING CODE 5001-10-F